NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee Meeting (#1173).

Date and Time: May 30, 2018 1:00 p.m.-5:30 p.m.; May 31, 2018 8:30 a.m.-3:30 p.m.

Place: National Science Foundation, 2415 Eisenhower Avenue, Alexandria, VA 22314. To help facilitate your entry into the building, please contact Una Alford (ualford@nsf.gov or 703-292-7111) on or prior to May 29, 2018.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• NSF Executive Liaison Report

• Discussion: Responses to the 2015-2016 CEOSE Biennial Report: NSF and Higher Education

• Presentation: The ADVANCE Program Model and the STEM Equality Achievement Project

• Presentation: Community-Driven Partnerships

• Discussion: Inclusion of Diverse Community Voices and the 2017-2018 CEOSE Biennial Report to Congress

• Panel: STEM Diversity within NSF

• Reports and Updates from the CEOSE Liaisons and the Federal Liaisons

• Meeting with NSF Director and Chief Operating Officer

• Presentation: GEO Opportunities for Leadership in Diversity

Dated: May 1, 2018.
Crystal Robinson,
Committee Management Officer.

[FR Doc. 2018-09467 Filed 5-3-18; 8:45 am]

BILLING CODE 7555-01-P